DEPARTMENT OF TRANSPORTATION

Federal Aviation Administration

14 CFR Part 39

[Docket No. FAA-2020-1105; Project Identifier MCAI-2020-01459-T; Amendment 39-22086; AD 2020-25-03R1]

RIN 2120-AA64

Airworthiness Directives; Airbus SAS Airplanes

AGENCY: Federal Aviation Administration (FAA), Department of Transportation (DOT).

ACTION: Final rule; removal.

SUMMARY: The FAA is removing Airworthiness Directive (AD) 2020-25-03, which applied to all Airbus SAS Model A318, A319, A320, and A321 series airplanes. AD 2020-25-03 required repetitive checks of the pressure gauges to determine the amount of pressure on the inflation reservoir of each emergency escape slide/raft, and applicable corrective actions. AD 2020-25-03 also provided optional terminating action for the repetitive checks. The FAA issued AD 2020-25-03 to address insufficient reservoir pressure in an emergency escape slide/raft, which would prevent the deployment of the emergency escape slide/raft during an emergency, possibly resulting in injury to the occupants. The FAA has determined that AD 2020-25-03 is no longer necessary because the unsafe condition no longer exists. Accordingly, AD 2020-25-03 is removed.

DATES: This AD becomes effective January 12, 2023.

ADDRESSES: AD Docket: You may examine the AD docket at regulations.gov under Docket No. FAA-2020-1105; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Dan Rodina, Aerospace Engineer, Large Aircraft Section, International Validation Branch, FAA, 2200 South 216th St., Des Moines, WA 98198; telephone 206-231-3225; email Dan.Rodina@faa.gov.

SUPPLEMENTARY INFORMATION:

Background

The European Union Aviation Safety Agency (EASA), which is the Technical Agent for the Member States of the European Union, previously issued AD 2020-0236, dated October 27, 2020 (EASA AD 2020-0236) (also referred to as the Mandatory Continuing Airworthiness Information, or the MCAI), to correct an unsafe condition for all Airbus SAS Model A318 series airplanes; Model A319-111, -112, -113, -114, -115, -131, -132, -133, -151N, -153N, and -171N airplanes; Model A320-211, -212, -214, -215, -216, -231, -232, -233, -251N, -252N, -253N, -271N, -272N, and -273N airplanes; and Model A321 series airplanes. The FAA issued corresponding AD 2020-25-03, Amendment 39-21345 (85 FR 79415, December 10, 2020) (AD 2020-25-03), for those airplanes except for Model A319-153N and A320-215 airplanes, which are not included on the U.S. type certificate data sheet. AD 2020-25-03 required repetitive checks of the pressure gauges to determine the amount of pressure on the inflation reservoir of each emergency escape slide/raft, and applicable corrective actions. AD 2020-25-03 also provided optional terminating action for the repetitive checks. AD 2020-25-03 was prompted by a report of a loud bang heard during airplane boarding. A subsequent inspection revealed that one emergency escape slide/raft was found with zero reservoir pressure due to a burst rupture disk assembly in the inflation reservoir, which was probably caused by a manufacturing defect. The FAA issued AD 2020-25-03 to address insufficient reservoir pressure in an emergency escape slide/raft, which would prevent the deployment of the emergency escape slide/raft during an emergency, possibly resulting in injury to the occupants.

Since the FAA issued AD 2020-25-03, EASA issued AD 2020-0236-CN, dated May 16, 2022, to cancel EASA AD 2020-0236. EASA advised the FAA that SAFRAN Aerosystems, the manufacturer of the affected parts, produced service information with instructions for replacement of the rupture disk during overhaul of the affected parts. EASA reports that no rupture disk failures have occurred in service or during overhaul. Consequently, new risk analysis determined that an unsafe condition no longer exists that would warrant AD action.

Subsequently, the FAA issued a notice of proposed rulemaking (NPRM) to amend 14 CFR part 39 by removing AD 2020-25-03. The NPRM was published in the Federal Register on June 16, 2022 (87 FR 36274). The FAA is issuing this AD to remove AD 2020-25-03.

Discussion of Final Airworthiness Directive

Comments

The FAA received a comment from United Airlines Engineering in support of the NPRM without change. The commenter concurred with the proposal to rescind AD 2020-25-03, noting that there have been no known reports of evacuation slide issues related to rupture disc failure while in service or during repair/overhaul. The commenter added that a visual check of the slide pressure is performed prior to each revenue flight.

Change to Project Identifier Number

The NPRM identified the project number as AD-2020-01459-T. However, the project number for this rescission is MCAI-2020-1459-T. The FAA has revised this rescission accordingly.

Conclusion

The FAA reviewed the relevant data, considered any comments received, and determined that air safety requires adopting this AD as proposed. Except for minor editorial changes, this AD is adopted as proposed in the NPRM. None of the changes will increase the economic burden on any operator.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority.

Regulatory Findings

The FAA determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2020-25-03, Amendment 39-21345 (85 FR 79415, December 10, 2020), and

b. Adding the following new AD:

2020-25-03R1 Airbus SAS: Amendment 39-22086; Docket No. FAA-2020-1105; Project Identifier MCAI-2020-01459-T.

(a) Effective Date

This AD becomes effective January 12, 2023.

(b) Affected ADs

This AD replaces AD 2020-25-03, Amendment 39-21345 (85 FR 79415, December 10, 2020).

(c) Applicability

This action applies to all Airbus SAS airplanes, certificated in any category, identified in paragraphs (c)(1) through (4) of this AD.

(1) Model A318-111, -112, -121, and -122 airplanes.

(2) Model A319-111, -112, -113, -114, -115, -131, -132, -133, -151N, and -171N airplanes.

(3) Model A320-211, -212, -214, -216, -231, -232, -233, -251N, -252N, -253N, -271N, -272N, and -273N airplanes.

(4) Model A321-111, -112, -131, -211, -212, -213, -231, -232, -251N, -252N, -253N, -271N, -272N, -251NX, -252NX, -253NX, -271NX, and -272NX airplanes.

(d) Subject

Air Transport Association (ATA) of America Code 25, Equipment/furnishings.

(e) Related Information

For more information about this AD, contact Dan Rodina, Aerospace Engineer, Large Aircraft Section, International Validation Branch, FAA, 2200 South 216th St., Des Moines, WA 98198; telephone 206-231-3225; email Dan.Rodina@faa.gov.

(f) Material Incorporated by Reference

None.

Issued on January 4, 2023.
Gaetano A. Sciortino,
Acting Director, Compliance & Airworthiness Division, Aircraft Certification Service.

[FR Doc. 2023-00185 Filed 1-11-23; 8:45 am]

BILLING CODE 4910-13-P